BUREAU OF CONSUMER FINANCIAL PROTECTION

12 CFR Part 1022

[Docket No. CFPB-2012-0041]

RIN 3170-AA06

Fair Credit Reporting (Regulation V); Correction

AGENCY: Bureau of Consumer Financial Protection.

ACTION: Correcting amendments.

SUMMARY: Pursuant to the Dodd-Frank Wall Street Reform and Consumer Protection Act (Dodd-Frank Act) and the Fair Credit Reporting Act (FCRA), as amended, the Bureau of Consumer Financial Protection (Bureau) published for public comment an interim final rule establishing a new Regulation V (Fair Credit Reporting) on December 21, 2011. This document corrects typographical and other technical errors in Appendices I, K, M, and N of the interim final rule, which contain model forms.

DATES: These corrections are effective November 14, 2012.

FOR FURTHER INFORMATION CONTACT: Monica Jackson, Bureau of Consumer Financial Protection, 1700 G Street NW., Washington, DC 20552, at (202) 435-7000.

SUPPLEMENTARY INFORMATION:

I. Background

On December 21, 2011, the Bureau published in the Federal Register an interim final rule with request for public comment (76 FR 79307) establishing 12 CFR part 1022, Fair Credit Reporting (Regulation V), which implements the provisions of the FCRA for which the Bureau has rulemaking authority pursuant to the Dodd-Frank Act. The interim final rule includes, among other things, model forms in Appendices I (Summary of Consumer Identity Theft Rights), K (Summary of Consumer Rights), M (Notice of Furnisher Responsibilities), and N (Notice of User Responsibilities). As discussed in the SUPPLEMENTARY INFORMATION to the interim final rule, Appendices I, K, M, and N of the interim final rule were intended to substantially duplicate the Federal Trade Commission's (FTC's) Appendices E, F, G, and H to 16 CFR part 698, respectively, with only certain non-substantive, technical, formatting, and stylistic changes. The model forms in Appendices I, K, M, and N to the Bureau's interim final rule contain several typographical or other technical errors. This document corrects those errors and more closely conforms the formatting of the Bureau's Appendices to those of the FTC.

Among the corrections are the following: Appendix I contained several erroneous references to the FTC and its Web site, which have been updated in this document to refer to the Bureau and its Web site. The addresses in Appendix K for contacting the Assistant General Counsel for Aviation Enforcement and Proceedings and the Surface Transportation Board have been updated. Typographical errors in the Spanish language translation at the top of Appendices I and K have also been corrected. Appendices M and N have been updated to reflect the promulgation of guidelines and regulations addressing certain obligations of furnishers and users of consumer reports.

To mitigate the impact of these changes on users of the model forms in the Bureau's Appendices I, K, M, and N published December 21, 2011, the Bureau will regard the use of those model forms to constitute compliance with the FCRA provisions requiring such forms and will regard those forms to be substantially similar to the corrected forms published today, until further notice. The Bureau anticipates providing that further, notice along with ample time to allow for the orderly discontinuation of the December 21, 2011 model forms, when it issues a final rule to restate Regulation V in 2013.

II. Basis for the Corrections

In issuing the Bureau's Regulation V as an interim final rule, the Bureau found good cause to conclude that providing notice and opportunity for comment was unnecessary and contrary to the public interest. See 76 FR 79308, 79310 (Dec. 21, 2011). The Bureau also finds that there is good cause to publish these corrections without seeking public comment. See 5 U.S.C. 553(b)(B). Public comment is unnecessary because the Bureau is correcting inadvertent, technical errors about which there is minimal, if any, basis for substantive disagreement.

The Bureau also finds good cause to dispense with a 30-day delay of effective date. See 5 U.S.C. 553(d). The Bureau believes that a delay is unnecessary and contrary to the public interest because the Bureau is merely making technical corrections to existing model forms. The Bureau will continue to regard the use of the model forms in the Bureau's Appendices I, K, M, and N published December 21, 2011, to constitute compliance with the FCRA provisions requiring such forms and will regard those forms to be substantially similar to the corrected forms published today, until further notice.

List of Subjects in 12 CFR Part 1022

Banks, Banking, Consumer protection, Credit unions, Fair Credit Reporting Act, Holding companies, National banks, Privacy, Reporting and recordkeeping requirements, Savings associations, State member banks.

Accordingly, 12 CFR part 1022 is amended by making the following corrections:

PART 1022—FAIR CREDIT REPORTING (REGULATION V)

1. The authority citation for part 1022 continues to read as follows:

Authority: 12 U.S.C. 5512, 5581; 15 U.S.C. 1681a, 1681b, 1681c, 1681c-1, 1681e, 1681g, 1681i, 1681j, 1681m, 1681s, 1681s-2, 1681s-3, and 1681t; Sec. 214, Public Law 108-159, 117 Stat. 1952.

2. Revise Appendix I to read as follows:

Appendix I to Part 1022—Summary of Consumer Identity Theft Rights

The prescribed form for this summary is a disclosure that is substantially similar to the Bureau's model summary with all information clearly and prominently displayed. A summary should accurately reflect changes to those items that may change over time (such as telephone numbers) to remain in compliance. Translations of this summary will be in compliance with the Bureau's prescribed model, provided that the translation is accurate and that it is provided in a language used by the recipient consumer.

BILLING CODE 4810-AM-P

3. Revise Appendix K to read as follows:

Appendix K to Part 1022—Summary of Consumer Rights

The prescribed form for this summary is a disclosure that is substantially similar to the Bureau's model summary with all information clearly and prominently displayed. The list of Federal regulators that is included in the Bureau's prescribed summary may be provided separately so long as this is done in a clear and conspicuous way. A summary should accurately reflect changes to those items that may change over time (e.g., dollar amounts, or telephone numbers and addresses of Federal agencies) to remain in compliance. Translations of this summary will be in compliance with the Bureau's prescribed model, provided that the translation is accurate and that it is provided in a language used by the recipient consumer.

4. Revise Appendix M to read as follows:

Appendix M to Part 1022—Notice of Furnisher Responsibilities

The prescribed form for this disclosure is a separate document that is substantially similar to the Bureau's model notice with all information clearly and prominently displayed. Consumer reporting agencies may limit the disclosure to only those items that they know are relevant to the furnisher that will receive the notice.

5. Revise Appendix N to read as follows:

Appendix N to Part 1022—Notice of User Responsibilities

The prescribed form for this disclosure is a separate document that is substantially similar to the Bureau's notice with all information clearly and prominently displayed. Consumer reporting agencies may limit the disclosure to only those items that they know are relevant to the user that will receive the notice.

Dated: October 31, 2012.
Richard Cordray,
Director, Bureau of Consumer Financial Protection.

[FR Doc. 2012-27581 Filed 11-13-12; 8:45 am]

BILLING CODE 4810-AM-C